DEPARTMENT OF VETERANS AFFAIRS

[OMB Control No. 2900-0422]

Agency Information Collection Activities Under OMB Review

AGENCY: Office of Acquisition and Materiel Management, Department of Veterans Affairs.

ACTION: Notice.

SUMMARY: In compliance with the Paperwork Reduction Act (PRA) of 1995 (44 U.S.C., 3501 et seq.), this notice announces that the Office of Acquisition and Materiel Management, Department of Veterans Affairs, has submitted the collection of information abstracted below to the Office of Management and Budget (OMB) for review and comment. The PRA submission describes the nature of the information collection and its expected cost and burden; it includes the actual data collection instrument.

DATES: Comments must be submitted on or before February 25, 2002.

FOR FURTHER INFORMATION OR A COPY OF THE SUBMISSION CONTACT: Denise McLamb, Information Management Service (045A4), Department of Veterans Affairs, 810 Vermont Avenue, NW, Washington, DC 20420, (202) 273-8030, FAX (202) 273-5981 or e-mail to: denise.mclamb@mail.va.gov. Please refer to “OMB Control No. 2900-0422” in any correspondence.

SUPPLEMENTARY INFORMATION:

Titles:

a. Veterans Affairs Acquisition Regulation (VAAR) Clause 852.236-72, Performance of Work by the Contractor.

b. Veterans Affairs Acquisition Regulation (VAAR) Clause 852.236-81, Work Coordination. (This Clause will be renumbered as “Alternate 1” to VAAR Clause 852.236-80.)

c. Veterans Affairs Acquisition Regulation (VAAR) Clause 852.236-82, Payments Under Fixed-Price Construction Contracts (without NAS), including Supplement 1 (which will be renamed as “Alternate 1”).

d. Veterans Affairs Acquisition Regulation (VAAR) Clause 852.236-83, Payments Under Fixed-Price Construction Contracts (with NAS), including Supplement 1 (which will be renamed as “Alternate 1”).

e. Veterans Affairs Acquisition Regulation (VAAR) Clause 852.236-84, Schedule of Work Progress.

f. Veterans Affairs Acquisition Regulation (VAAR) Clause 852.236-88, Contract Changes, Supplements FAR Clause 52.243-4, Changes.

OMB Control Number: 2900-0422.

Type of Review: Reinstatement, with change, of a previously approved collection for which approval has expired.

Abstract: The information is necessary for VA to administer construction contracts and to carry out its responsibility to construct, maintain and repair real property for VA.

An agency may not conduct or sponsor, and a person is not required to respond to a collection of information unless it displays a currently valid OMB control number. The Federal Register Notice with a 60-day comment period soliciting comments on this collection of information was published on October 26, 2001, at page 54342.

Affected Public: Business or other for profit, individuals or households, and not-for-profit institutions.

Estimated Annual Burden: 4,802 hours.

Estimated Average Burden Per Respondent: 1 hour.

Frequency of Response: On occasion.

Estimated Number of Respondents: 1,311.

Estimated Number of Total Respondents: 3,534.

Send comments and recommendations concerning any aspect of the information collection to VA's OMB Desk Officer, OMB Human Resources and Housing Branch, New Executive Office Building, Room 10235, Washington, DC 20503 (202) 395-7316. Please refer to “OMB Control No. 2900-0422” in any correspondence.

Dated: January 11, 2002.
By direction of the Secretary.
Donald L. Neilson,
Director, Information Management Service.

[FR Doc. 02-1739 Filed 1-23-02; 8:45 am]

BILLING CODE 8320-01-P